FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 13, 2022.

A. Federal Reserve Bank of Chicago (Colette A. Fried, Assistant Vice President) 230 South LaSalle Street, Chicago, Illinois 60690-1414:

1. Jeffrey Anderson, Minneapolis, Minnesota; Ronald Buholzer and Susan Buholzer, as co-trustees of the Ronald and Susan Buholzer Trust, Joshua Lincicum, Braytn Meythaler, and Merik Meythaler, all of Monroe, Wisconsin; Gregory Kranhenbuhl, as trustee of the Gregory K. Kranhenbuhl Survivors Trust, both of Newton, Wisconsin; Myron Meythaler and Linda Meythaler, as co-trustees of the Myron A. Meythaler and Linda L. Meythaler Revocable Trust, Connie Lincicum, Barry Meythaler, and Summer Stietz, all of South Wayne, Wisconsin; Brandi House, Verona, Wisconsin; Jason Lincicum, Lodi, Wisconsin; Jeremy Lincicum, Mt. Horeb, Wisconsin; and Robin Schubert, Warren, Illinois; as a group acting in concert to retain voting shares of Woodford Bancshares, Inc., and thereby indirectly retain voting shares of Woodford State Bank, both of Monroe, Wisconsin.

Additionally, Jeffrey Anderson Family Trust, Jeffrey Anderson, as trustee, both of Minneapolis, Minnesota; to acquire voting shares of Woodford Bancshares, Inc., and thereby indirectly acquire voting shares of Woodford State Bank.

2. Robert K. Ginther, as trustee of the Merlin E. Zitzner Trust fbo Jenele R. Zitzner, Merlin E. Zitzner, Jenele R. Zitzner, Alexander M. E. Zitzner, and Tara Zitzner, all of Baraboo, Wisconsin; as a group acting in concert, to retain voting shares of The Baraboo Bancorporation, Inc., and thereby indirectly retain voting shares of Baraboo State Bank, both of Baraboo, Wisconsin.

Federal Reserve Bank of Kansas City (Jeffrey Imgarten, Assistant Vice President) 1 Memorial Drive, Kansas City, Missouri 64198-0001:

1. Andrew R. Stull, Kearney, Nebraska, and Jody L. Weitzel, Dacono, Colorado; to join the Stull Family Group, a group acting in concert, to acquire voting shares of Farmers State Bancshares, Inc., and thereby indirectly acquire voting shares of Nebraska Bank, both of Dodge, Nebraska.

Board of Governors of the Federal Reserve System, March 24, 2022.
Michele Taylor Fennell,
Deputy Associate Secretary of the Board.

[FR Doc. 2022-06586 Filed 3-28-22; 8:45 am]

BILLING CODE P